DEPARTMENT OF ENERGY

Federal Energy Regulatory Commission

[Project No. 14518-000]

New England Hydropower Company, LLC; Notice of Preliminary Permit Application Accepted for Filing and Soliciting Comments, Motions To Intervene, and Competing Applications

On April 29, 2013, the New England Hydropower Company, LLC filed an application for a preliminary permit, pursuant to section 4(f) of the Federal Power Act (FPA), proposing to study the feasibility of the Lensdale Pond Dam Hydroelectric Project (Lensdale Dam Project or project) to be located on Quinebaug River, near Southbridge, Worcester County, Massachusetts. The sole purpose of a preliminary permit, if issued, is to grant the permit holder priority to file a license application during the permit term. A preliminary permit does not authorize the permit holder to perform any land-disturbing activities or otherwise enter upon lands or waters owned by others without the owners' express permission.

The proposed project would consist of the following: (1) An existing 21-foot-high, 433-foot-long earth embankment dam with a 154-foot-long stone masonry spillway and 3.5-foot-high wooden flashboards; (2) an existing 10.9-acre impoundment (Lensdale Pond) with an operating elevation of about 416.7 feet above mean sea level; (3) an existing 31-foot-long, 12.9-foot-wide, and 10-foot-deep head box and intake channel; (4) a new 12-foot-high, 11-foot-wide hydraulically-powered sluice gate equipped with a new 12-foot-high, 12-foot-wide trashrack with 6-inch bar spacing; (5) a new 41-foot-long, 11.55-foot wide Archimedes screw generator unit with an installed capacity of 185 kilowatts in a new 65-foot-long, 14.75-foot-wide concrete housing structure; (6) a new 10-foot-high, 24-foot-long, 30-foot-wide concrete powerhouse containing a new gearbox and electrical controls; (7) an existing 850-foot-long, 30-foot-wide, and 4-foot-deep tailrace; (8) a new above-ground 365-foot-long, 35-kilovolt transmission line connecting the powerhouse to the Southbridge Power & Thermal's distribution system; and (9) appurtenant facilities. The estimated annual generation of the proposed Lensdale Dam Project would be about 870 megawatt-hours. The existing Lensdale Pond Dam is equipped with a 12-foot-high, 11-foot-wide flood gate that is controlled by the U.S. Army Corps of Engineers. The existing Lensdale Pond Dam and appurtenant works, including an existing powerhouse foundation and intake structures, are owned by Southbridge Associates Limited Partnership.

Applicant Contact: Mr. Michael C. Kerr, New England Hydropower Company, LLC, P.O. Box 5524, Beverly Farms, Massachusetts 01915; phone: (978) 360-2547.

FERC Contact: John Ramer; phone: (202) 502-8969 or email: john.ramer@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14518) in the docket number field to access the document. For assistance, contact FERC Online Support.

Dated: May 8, 2013.
Kimberly D. Bose,
Secretary.

[FR Doc. 2013-11670 Filed 5-15-13; 8:45 am]

BILLING CODE 6717-01-P